DEPARTMENT OF ENERGY

Federal Energy Regulatory Commission

Combined Notice of Filings #1

Take notice that the Commission received the following electric corporate filings:

Docket Numbers: EC23-86-000.

Applicants: FirstEnergy Corp., FirstEnergy Transmission, LLC, American Transmission Systems, Incorporated, Mid-Atlantic Interstate Transmission, LLC, Trans-Allegheny Interstate Line Company, Potomac-Appalachian Transmission Highline, LLC, North American Transmission Company II L.P., Platinum Compass B 2018 RSC Limited.

Description: Joint Application for Authorization Under Section 203 of the Federal Power Act of FirstEnergy Corp., et al.

Filed Date: 5/5/23.

Accession Number: 20230505-5255.

Comment Date: 5 p.m. ET 5/26/23.

Take notice that the Commission received the following exempt wholesale generator filings:

Docket Numbers: EG23-148-000.

Applicants: Boomtown Solar Energy LLC.

Description: Boomtown Solar Energy LLC submits Notice of Self-Certification of Exempt Wholesale Generator Status.

Filed Date: 5/8/23.

Accession Number: 20230508-5133.

Comment Date: 5 p.m. ET 5/30/23.

Take notice that the Commission received the following electric rate filings:

Docket Numbers: ER23-1067-001.

Applicants: PJM Interconnection, L.L.C.

Description: Compliance filing: Compliance Filing Capacity Interconnection Rights to ELCC in ER23-1067 to be effective 4/10/2023.

Filed Date: 5/8/23.

Accession Number: 20230508-5078.

Comment Date: 5 p.m. ET 5/30/23.

Docket Numbers: ER23-1158-002.

Applicants: PJM Interconnection, L.L.C.

Description: Tariff Amendment: Amendment to SA Filing, Original NSA, SA No. 6788; Queue No. AC2-136 to be effective 4/24/2023.

Filed Date: 5/8/23.

Accession Number: 20230508-5116.

Comment Date: 5 p.m. ET 5/30/23.

Docket Numbers: ER23-1475-001.

Applicants: Midcontinent Independent System Operator, Inc.

Description: Tariff Amendment: 2023-05-08_Amendment to Phasing Out Stored Energy Resources and SER-II to be effective 6/1/2023.

Filed Date: 5/8/23.

Accession Number: 20230508-5113.

Comment Date: 5 p.m. ET 5/18/23.

Docket Numbers: ER23-1839-000.

Applicants: Power Authority of the State of New York, Consolidated Edison Company of New York, Inc., New York Independent System Operator, Inc.

Description: § 205(d) Rate Filing: Power Authority of the State of New York submits tariff filing per 35.13(a)(2)(iii): Joint 205 filing: TFIA among NYISO, Con Edison, NYPA, and CHPE LLC SA2772-CEII to be effective 4/21/2023.

Filed Date: 5/5/23.

Accession Number: 20230505-5192.

Comment Date: 5 p.m. ET 5/26/23.

Docket Numbers: ER23-1840-000.

Applicants: Apollo Power Inc.

Description: Baseline eTariff Filing: MBR to be effective 7/7/2023.

Filed Date: 5/8/23.

Accession Number: 20230508-5002.

Comment Date: 5 p.m. ET 5/30/23.

Docket Numbers: ER23-1841-000.

Applicants: PJM Interconnection, L.L.C.

Description: § 205(d) Rate Filing: Original ISA, Service Agreement No. 6894; Queue No. AF1-122 to be effective 4/7/2023.

Filed Date: 5/8/23.

Accession Number: 20230508-5053.

Comment Date: 5 p.m. ET 5/30/23.

Docket Numbers: ER23-1842-000.

Applicants: FPL Energy Stateline II, Inc.

Description: Tariff Amendment: FPL Energy Stateline II, Inc. Notice of Cancellation of MBR Tariff to be effective 5/9/2023.

Filed Date: 5/8/23.

Accession Number: 20230508-5057.

Comment Date: 5 p.m. ET 5/30/23.

Docket Numbers: ER23-1843-000.

Applicants: PJM Interconnection, L.L.C.

Description: § 205(d) Rate Filing: Amendment to ISA, SA No. 2515; Queue No. U2-090 (amend) to be effective 7/8/2023.

Filed Date: 5/8/23.

Accession Number: 20230508-5058.

Comment Date: 5 p.m. ET 5/30/23.

Docket Numbers: ER23-1844-000.

Applicants: Alabama Power Company, Georgia Power Company, Mississippi Power Company.

Description: Tariff Amendment: Alabama Power Company submits tariff filing per 35.15: Guernsey Holdings LGIA Termination Filing to be effective 5/8/2023.

Filed Date: 5/8/23.

Accession Number: 20230508-5096.

Comment Date: 5 p.m. ET 5/30/23.

Docket Numbers: ER23-1845-000.

Applicants: PJM Interconnection, L.L.C.

Description: Tariff Amendment: Notice of Cancellation of WMPA, SA No. 6382; Queue No. AE1-061 re: withdrawal to be effective 6/26/2023.

Filed Date: 5/8/23.

Accession Number: 20230508-5098.

Comment Date: 5 p.m. ET 5/30/23.

Docket Numbers: ER23-1846-000.

Applicants: Boomtown Solar Energy LLC.

Description: Baseline eTariff Filing: Application for Market-Based Rate Authorization to be effective 7/8/2023.

Filed Date: 5/8/23.

Accession Number: 20230508-5105.

Comment Date: 5 p.m. ET 5/30/23.

Docket Numbers: ER23-1847-000.

Applicants: The Potomac Edison Company, PJM Interconnection, L.L.C.

Description: § 205(d) Rate Filing: The Potomac Edison Company submits tariff filing per 35.13(a)(2)(iii: Potomac submits Borderline Service Agreement, Service Agreement No. 6408 to be effective 6/1/2010.

Filed Date: 5/8/23.

Accession Number: 20230508-5130.

Comment Date: 5 p.m. ET 5/30/23.

Docket Numbers: ER23-1848-000.

Applicants: PJM Interconnection, L.L.C.

Description: § 205(d) Rate Filing: Original ISA, Service Agreement No. 6901; Queue No. AF1-086 to be effective 4/7/2023.

Filed Date: 5/8/23.

Accession Number: 20230508-5136.

Comment Date: 5 p.m. ET 5/30/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 8, 2023.
Debbie-Anne A. Reese,
Deputy Secretary.

[FR Doc. 2023-10157 Filed 5-11-23; 8:45 am]

BILLING CODE 6717-01-P